DEPARTMENT OF JUSTICE

Notice of Lodging of Consent Decree in United States v. East Kentucky Power Cooperative, Inc. Under the Clean Air Act

Under 28 CFR 50.7, notice is hereby given that on July 2, 2007, a proposed consent decree (“Consent Decree”) between East Kentucky Power Cooperative, Inc. (“EKPC”) and the United States, Civil Action No. 04-34-KSF, was lodged with the United States District Court for the Eastern District of Kentucky.

The Consent Decree would resolve claims asserted by the United States against EKPC pursuant to Sections 113(b) and 167 of the Clean Air Act (the “Act”), 42 U.S.C. 7413(b) and 7477, seeking injunctive relief and the assessment of civil penalties for EKPC's violations of:

(a) The Prevention of Significant Deterioration (“PSD”) provisions in Part C of Subchapter I of the Act, 42 U.S.C. 7470-92;

(b) The New Source Performance Standards (“NSPS”) provisions of the Act, 42 U.S.C. 7411;

(c) Title V of the Act, 42 U.S.C. 7661 et seq.; and

(d) The federally-enforceable State Implementation Plan (“SIP”) developed by the Commonwealth of Kentucky.

EKPC operates three coal-fired power plants in Kentucky: The Spurlock Plant, located near Maysville, Kentucky, the Dale Plant, located near Winchester, Kentucky, and the Cooper Plant, located near Somerset, Kentucky. The complaint filed by the United States alleges that EKPC modified Spurlock Unit 2 and Dale Units 3 and 4 without complying with PSD (including the requirements to first obtain a PSD permit authorizing the modifications and to install and operate the best available technology to control emissions of sulfur dioxide (“SO2”), nitrogen oxides (“NOx”), and/or particulate matter (“PM”)), and modified Dale Units 3 and 4 without complying the NSPS. The Complaint also alleges that EKPC violated Title V of the Act by failing to include the PSD and NSPS requirement triggered by its modifications in its Title V operating permits for the Spurlock and Dale plants. Finally, the Complaint alleges that EKPC illegally operated Spurlock Unit 2 at heat input capacities that were higher than allowed by its operating permit.

The proposed Consent Decree would require EKPC to reduce SO2, NOx and PM emissions at its plants through the installation and operation of state-of-the-art pollution control technologies and/or the retirement or re-powering of certain units. In addition, the proposed Consent Decree would require EKPC to install and operate wet electrostatic precipitators at its Spurlock Plant, which are designed to control sulfuric acid mist from coal-fired power plants, as a means of mitigating the harm caused by the alleged violations. Finally, the proposed Consent Decree would require EKPC to pay a $750,000 civil penalty.

The Department of Justice will receive for a period of thirty (30) days from the date of this publication comments relating to the Consent Decree. Comments should be addressed to the Assistant Attorney General, Environmental and Natural Resources Division, and either e-mailed to pubcomment-ees.enrd@usdoj.gov or mailed to P.O. Box 7611, U.S. Department of Justice, Washington, DC 20044-7611, and should refer to United States v. East Kentucky Power Cooperative, D.J. Ref. No. 90-5-2-1-08085.

The Consent Decree may be examined at the Office of the United States Attorney, Eastern District of Kentucky, 260 West Vine Street, Suite 300, Lexington, Kentucky, 40507-1612, and at U.S. EPA Region IV, 61 Forsyth Street, SW., Atlanta, Georgia, 30303-8960. During the public comment period, the Consent Decree may also be examined on the following Department of Justice Web site, http://www.usdoj.gov/enrd/Constent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $18.50 (25 cents per page reproduction cost) payable to the U.S. Treasury or, if by e-mail or fax, forward a check in that amount to the Consent Decree Library at the stated address.

W. Benjamin Fisherow,
Deputy Chief, Environmental Enforcement Section, Environment and Natural Resources Division.

[FR Doc. 07-3368 Filed 7-10-07; 8:45 am]

BILLING CODE 4410-15-M